DEPARTMENT OF EDUCATION

Applications for New Awards; Upward Bound Program (Regular Upward Bound (UB))

AGENCY: Office of Postsecondary Education, Department of Education.

ACTION: Notice.

Overview Information:

Upward Bound Program; Notice inviting applications for new awards for fiscal year (FY) 2012.

Catalog of Federal Domestic Assistance (CFDA) Number: 84.047A.

DATES: Applications Available: December 19, 2011.

Deadline for Transmittal of Applications: January 30, 2012.

Deadline for Intergovernmental Review: March 30, 2012.

Full Text of Announcement

I. Funding Opportunity Description

Purpose of Program: The Upward Bound (UB) Program is one of the seven programs known as the Federal TRIO Programs. The UB Program is a discretionary grant program that supports projects designed to provide the skills and motivation necessary to complete a program of secondary education and to enter and succeed in a program of postsecondary education. There are three types of grants under the UB Program: Regular UB grants; Veterans UB grants; and UB Math and Science grants. This notice only announces deadlines and other information for regular UB grants.

The President has set a clear goal for our education system: By 2020, the United States will once again lead the world in college attainment. The Department views the UB Program as a critical component in the effort to improve the quality of student outcomes so that more students are well prepared for college and careers. To more strategically align UB with overarching reform strategies for postsecondary completion, the Department is announcing three competitive preference priorities for this competition.

Priorities: There are three competitive preference priorities: Competitive Preference Priority 1—Turning Around Persistently Lowest-Achieving Schools; Competitive Preference Priority 2—Enabling More Data-Based Decision-Making; and Competitive Preference Priority 3—Improving Productivity. The three priorities are from the Department's notice of final supplemental priorities and definitions for discretionary grant programs, published in the Federal Register on December 15, 2010 (75 FR 78486), and corrected on May 12, 2011 (76 FR 27637).

For FY 2012 and any subsequent year in which the Department makes awards from the list of unfunded applicants from this competition, these priorities are competitive preference priorities. Under 34 CFR 75.105(c)(2)(i), we award up to an additional five points to an application that meets Competitive Preference Priority 1, up to an additional five points to an application that meets Competitive Preference Priority 2, and up to an additional five points to an application that meets Competitive Preference Priority 3, depending on how well the application meets these priorities. The maximum competitive preference points an application can receive under this competition is 10.

Note: Applicants must include in the one-page abstract submitted with the application a statement indicating which competitive preference priorities they have addressed. The priorities addressed in the application must also be listed on the UB Program Profile Sheet.

These priorities are:

Competitive Preference Priority 1—Turning Around Persistently Lowest-Achieving Schools (Up to 5 Additional Points)

Background

The Department is using Competitive Preference Priority 1 because an essential element in strengthening our education system is dramatic improvement of student performance in each State's persistently lowest-achieving schools. Overwhelming evidence shows that students enrolled in persistently lowest-achieving schools are most likely not to persist from one grade to the next; be ready for college when they graduate from high school; or enroll in a program of postsecondary education. Due to the fact that many UB-eligible students are enrolled in the nation's lowest-performing high schools, the Department believes UB has an important role to play in furthering the goals of improving academic performance and college access for students attending these high schools.

Priority

Projects that are designed to address the following priority area—providing services to students enrolled in persistently lowest-achieving schools (as defined in this notice).

Note: Applicants addressing this priority might want to consider focusing on a small number of target high school(s) that meet the definition of “persistently lowest-achieving school” and consider striving to ensure that not less than 40 percent of its recommended number of participants will be students attending these persistently lowest-achieving target high school(s). The Department is interested in seeing strong plans to support improvements in student achievement and outcomes within these high schools.

Competitive Preference Priority 2—Enabling More Data-Based Decision-Making (Up to 5 Additional Points)

Background

The Department is using Competitive Preference Priority 2 because data can be crucial to helping programs better serve the needs of participating students and increase the odds that participating students will pursue and succeed in postsecondary education. For UB grantees, data—particularly information from postsecondary education data systems about the outcomes of prior students the grantee has served—provides an important and immediate way to gauge effectiveness and guide decisions regarding resource allocation and improvements. It is also important to note that the quality of data is extremely important in providing accurate and trustworthy information to guide decisions. Data from State or reliable third-party sources is more likely to provide timely and high-quality information than self-reported data from surveys or interviews.

Priority

Projects that are designed to collect (or obtain), analyze, and use high-quality and timely data, including data on program participant outcomes, in accordance with privacy requirements (as defined in this notice), in: (a) Improving postsecondary student outcomes relating to enrollment, persistence, and completion and leading to career success, and (b) providing reliable and comprehensive information on the implementation of Department of Education programs, and participant outcomes in these programs, by using data from State longitudinal data systems or by obtaining data from reliable third-party sources.

Note: Applicants addressing this priority might want to consider discussing how they plan to work with high-quality third-party data systems that track students from secondary through postsecondary education—such as a State longitudinal data system—to obtain high-quality, timely, accurate, and reliable data on postsecondary enrollment, course taking, persistence, and completion. Applicants may also want to consider discussing how they would incorporate outcome data from high-quality longitudinal data systems into their projects to increase transparency and improve decision making on the part of students and families, especially with respect to preparing for, evaluating, and selecting a program of postsecondary education.

Competitive Preference Priority 3—Improving Productivity (Up to 5 Additional Points)

Background

The Department is using Competitive Preference Priority 3 because it believes that it is more important than ever to support projects that are designed to significantly increase efficiency in the use of resources while improving student outcomes. A key performance measure for the UB Program is the efficiency measure-cost per successful outcome, where a successful outcome is defined by the percentage of students persisting in secondary school or enrolling in, persisting in, or completing postsecondary education. Applicants proposing projects designed to decrease their cost per participant while improving student outcomes will be more likely to perform well on this efficiency measure.

Priority

Projects that are designed to significantly increase efficiency in the use of time, staff, money, or other resources while improving student learning or other educational outcomes (i.e., outcome per unit of resource). Such projects may include innovative and sustainable uses of technology, modification of school schedules and teacher compensation systems, use of open educational resources (as defined in the notice), or other strategies.

Note: Applicants addressing this priority might want to consider explaining how they will serve the same or an increased number of students at a lower cost per participant while improving or keeping steady student outcomes. Applicants might also want to consider describing how they will achieve this productivity by increasing efficiency in the use of resources.

Definitions: These definitions are from the notice of final supplemental priorities and definitions for discretionary grant programs, published in the Federal Register on December 15, 2010 (75 FR 78486), and corrected on May 12, 2011 (76 FR 27637), and they apply to the competitive preference priorities in this notice.

Open educational resources means teaching, learning, and research resources that reside in the public domain or have been released under an intellectual property license that permits their free use or repurposing by others.

Persistently lowest-achieving schools means, as determined by the State: (i) Any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate as defined in 34 CFR 200.19(b) that is less than 60 percent over a number of years; and (ii) any secondary school that is eligible for, but does not receive, Title I funds that: (a) Is among the lowest-achieving five percent of secondary schools or the lowest-achieving five secondary schools in the State that are eligible for, but do not receive, Title I funds, whichever number of schools is greater; or (b) is a high school that has had a graduation rate as defined in 34 CFR 200.19(b) that is less than 60 percent over a number of years.

To identify the persistently lowest-achieving schools, a State must take into account both: (i) The academic achievement of the “all students” group in a school in terms of proficiency on the State's assessments under Section 1111(b)(3) of the Elementary and Secondary Education Act in reading/language arts and mathematics combined; and (ii) the school's lack of progress on those assessments over a number of years in the “all students” group.

Privacy requirements means the requirements of the Family Educational Rights and Privacy Act (FERPA), 20 U.S.C. 1232g, and its implementing regulations in 34 CFR part 99, the Privacy Act, 5 U.S.C. 552a, as well as all applicable Federal, State, and local requirements regarding privacy.

Program Authority: 20 U.S.C. 1070a-11 and 20 U.S.C. 1070a-13.

Applicable Regulations: (a) The Education Department General Administrative Regulations (EDGAR) in 34 CFR parts 74, 75 (except for 75.215 through 75.221), 77, 79, 80, 82, 84, 85, 86, 97, 98, and 99. (b) The regulations for this program in 34 CFR part 645. (c) The notice of final supplemental priorities and definitions for discretionary grant programs, published in the Federal Register on December 15, 2010 (75 FR 78486) and corrected on May 12, 2011 (76 FR 27637).

Note: The regulations in 34 CFR part 79 apply to all applicants except federally recognized Indian tribes.

Note: The regulations in 34 CFR part 86 apply to institutions of higher education (IHEs) only.

II. Award Information

Type of Award: Discretionary grants.

Estimated Available Funds: The Administration has requested $920,089,000 for the Federal TRIO Programs for FY 2012, of which we intend to use an estimated $305,289,000 for new UB awards under this competition and $19,613,000 for continuation awards. The actual level of funding, if any, depends on final congressional action. However, we are inviting applications to allow enough time to complete the grant process if Congress appropriates funds for this program.

Contingent upon the availability of funds and the quality of applications, we may make additional awards in FY 2013 from the list of unfunded applicants from this competition.

Estimated Range of Awards: $250,000 to $1,000,000.

Estimated Average Size of Awards: $330,000.

Maximum Award:

For new grantees or existing grantees proposing to serve a new target area, the maximum award is equal to $250,000 to serve at least 60 students.

For Existing Grantees: For an applicant currently receiving a UB Program grant and applying for a grant to serve the same target area or schools, the maximum award amount is determined based upon the applicant's proposed per participant cost, as follows:

• If an applicant's proposed per participant cost is at or below $4,200, then the applicant's maximum award is equal to the applicant's grant award amount for FY 2007, the first year of the previous grant cycle, plus 5 percent.

• If an applicant's proposed per participant cost is at or below $4,500 and above $4,200, then the applicant's maximum award is equal to the applicant's grant award amount for FY 2007, the first year of the previous grant cycle, to serve a number of participants such that the per participant cost is $4,500 or less.

• If an applicant's proposed per participant cost is above $4,500, then the applicant's maximum award is equal to $250,000 to serve at least 50 students.

• An applicant should ensure that its cost per participant will allow the grant to serve students well and produce quality outcomes in terms of high school graduation and postsecondary entry and completion. Applicants proposing to serve students at a lower cost per participant than that of their existing project should consider selecting a level at which they will be able to sustain or improve student outcomes.

Pursuant to 34 CFR 645.43(a), we will reject any application that proposes a budget exceeding the maximum amount described in this section for a single budget period of 12 months. Pursuant to 34 CFR 645.43(a), we will also reject any application that proposes a budget to serve less than 50 participants.

Estimated Number of Awards: 982.

Note: The Department is not bound by any estimates in this notice.

Project Period: Up to 60 months.

III. Eligibility Information

1. Eligible Applicants: Institutions of higher education; public and private agencies and organizations, including community-based organizations with experience in serving disadvantaged youth; combinations of these institutions, agencies, and organizations; and secondary schools.

2. Cost Sharing or Matching: This program does not require cost sharing or matching.

3. Other: An applicant may submit more than one application for a UB grant as long as each application describes a project that serves a different target area or target school (34 CFR 645.20(a)). The Secretary is not designating any additional populations for which an applicant may submit a separate application under this competition (34 CFR 645.20(b)).

IV. Application and Submission Information

1. Address to Request Application Package: You can obtain an application package via the Internet by downloading the package from the program Web site at: http://www2.ed.gov/programs/trioupbound/index.html.

You can also request a copy of the application package from: Ken Waters, Upward Bound Programs, U.S. Department of Education, 1990 K Street NW., Room 7000, Washington, DC 20006-8510. Telephone: (202) 502-7600 or by email: TRIO@ed.gov.

If you use a telecommunications device for the deaf (TDD), call the Federal Relay Service (FRS), toll free, at 1-(800) 877-8339.

Individuals with disabilities can obtain a copy of the application package in an accessible format (e.g., braille, large print, audiotape, or compact disc) by contacting the program contact person listed in this section.

2. Content and Form of Application Submission: Requirements concerning the content of an application, together with the forms you must submit, are in the application package for this program.

Page Limit: The application narrative is where you, the applicant, address the selection criteria that reviewers use to evaluate your application. You must limit the application narrative (Part III) to no more than 60 pages. However, any application addressing the competitive preference priorities may include up to four additional pages for each priority addressed (a total of 12 pages if all three priorities are addressed) in a separate section of the application submission to discuss how the application meets the competitive preference priority or priorities. These additional pages cannot be used for or transferred to the project narrative. Partial pages will count as a full page toward the page limit. For purpose of determining compliance with the page limit, each page on which there are words will be counted as one full page. Applicants must use the following standards:

• A “page” is 8.5″ x 11″, on one side only, with 1″ margins at the top, bottom, and both sides.

• Double space (no more than three lines per vertical inch) all text in the application narrative, except titles, headings, footnotes, quotations, references, and captions, as well as all text in charts, tables, figures, and graphs.

• Use a font that is either 12 point or larger.

• Use one of the following fonts: Times New Roman, Courier, Courier New, or Arial. An application submitted in any other font (including Times Roman and Arial Narrow) will not be accepted.

The page limits do not apply to Part I, the Application for Federal Assistance (SF 424); Part II, the budget information summary form (ED Form 524); the assurances and certifications; the UB Program Profile; or the one-page Project Abstract narrative. If you include any attachments or appendices, these items will be counted as part of Part III, the application narrative, for purposes of the page-limit requirement. You must include your complete response to the selection criteria, which also includes the budget narrative, in Part III, the application narrative.

We will reject your application if you exceed the page limit.

3. Submission Dates and Times:

Applications Available: December 19, 2011.

Deadline for Transmittal of Applications: January 30, 2012.

Applications for grants under this program must be submitted electronically using the Grants.gov Apply site (Grants.gov). For information (including dates and times) about how to submit your application electronically, or in paper format by mail or hand delivery if you qualify for an exception to the electronic submission requirement, please refer to Section IV. 7. Other Submission Requirements of this notice.

We do not consider an application that does not comply with the deadline requirements.

Individuals with disabilities who need an accommodation or auxiliary aid in connection with the application process should contact the person listed under FOR FURTHER INFORMATION CONTACT in Section VII of this notice. If the Department provides an accommodation or auxiliary aid to an individual with a disability in connection with the application process, the individual's application remains subject to all other requirements and limitations in this notice. Deadline for Intergovernmental Review: March 30, 2012.

4. Intergovernmental Review: This program is subject to Executive Order 12372 and the regulations in 34 CFR part 79. Information about Intergovernmental Review of Federal Programs under Executive Order 12372 is in the application package for this program.

5. Funding Restrictions: We specify unallowable costs in 34 CFR 645.41. We reference additional regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow two to five weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program must be submitted electronically unless you qualify for an exception to this requirement in accordance with the instructions in this section.

a. Electronic Submission of Applications.

Applications for grants under the Upward Bound Grant Competition, CFDA number 84.047A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Upward Bound Grant competition at www.Grants.gov. You must search for the downloadable application package for this competition by the CFDA number. Do not include the CFDA number's alpha suffix in your search (e.g., search for 84.047, not 84.047A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a .PDF (Portable Document) read-only, non-modifiable format. Do not upload an interactive or fillable .PDF file. If you upload a file type other than a read-only, non-modifiable .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-(800) 518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Ken Waters, U.S. Department of Education, 1990 K St. NW., Room 7000, Washington, DC 20006-8510. Fax: (202) 502-7857.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.047A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.047A), 550 12th Street SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 645.31 and are listed in the application package.

Note: With the changes made to section 402A(f)(3)(B) of the Higher Education Act of 1965, as amended, by the Higher Education Opportunity Act, Public Law 110-315, the UB Program objectives have been standardized, and the Department has updated 34 CFR 645.31(b) accordingly. 75 FR 65712, 65786-65787 (October 26, 2010). Please note that applicants are required to use these objectives to measure performance under the program. Specifically, the “Objectives” section of the selection criterion is worth nine points, and applicants should address the standardized objectives related to: Academic performance (GPA) (1 point), academic performance (standardized test scores)(1 point), secondary school retention and graduation (with regular secondary school diploma)(2 points), Completion of a rigorous secondary school program of study (1 point), postsecondary enrollment (3 points), and postsecondary completion (1 point).

2. Review and Selection Process: A panel of non-Federal readers will review each application in accordance with the selection criteria and the competitive preference priorities, pursuant to 34 CFR 645.30. Readers will be trained by the Department and given guidance on how to evaluate applications in a method that is both uniform and rigorous. The individual scores of the readers will be added and the sum divided by the number of readers to determine the reader score received in the review process. In accordance with 34 CFR 645.32, the Secretary will evaluate the prior experience (PE) of applicants that received a UB Program project grant for project years 2008-2009, 2009-2010, and 2010-2011. Based upon that evaluation, the Secretary will add PE points earned to the application's averaged reader score to determine the total score for each application. The Secretary makes new grants in rank order on the basis of the total scores of the reader scores and PE points awarded to each application. Pursuant to 34 CFR 645.30(c), if there are insufficient funds for all applications with the same total score, the Secretary will choose among the tied applications so as to serve geographical areas that have been underserved by the UB Program. The Secretary will not make a new grant to an applicant if the applicant's prior project involved the fraudulent use of program funds.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The success of the UB Program is measured by the percentage of UB participants who enroll in and complete postsecondary education. The following performance measures have been developed to track progress toward achieving program success:

1. The percentage of UB students who take two years of mathematics beyond Algebra I by the 12th grade;

2. The percentage of UB students that enrolled in postsecondary education;

3. The percentage of UB students who enrolled in a program of postsecondary education by the fall term following graduation from high school who in the first year of postsecondary education placed into college-level math and English without need for remediation;

4. The percentage of UB students who enroll in a program of postsecondary education and graduate on time—within four years for the bachelor's degree and within two years for the associate's degree;

5. The percentage of UB participants who enrolled in a program of postsecondary education and attain either an associate's degree within three years or a bachelor's degree within six years;

6. The percentage of UB students expected to graduate high school in the reporting year that complete a Free Application for Federal Student Aid (FAFSA); and

7. The cost per successful participant.

Note: Because calculating some of these performance measures requires the use of data that is not already reported, the Department will be asking grantees to collect data in addition to what is already provided each year on annual reports. The data is:

• Remediation Courses: Whether or not a student in higher education placed into college-level math and English or needed remediation in those subjects.

The Department will determine the sixth performance measure on FAFSA completion by using its own databases and so does not need additional information from grantees. To assess the seventh performance measure on efficiency of the program, the Department will track the average cost, in Federal funds, of achieving a successful outcome, where success is defined as enrollment in postsecondary education of UB students immediately after high school graduation.

Grant recipients must collect and report data on steps they have taken toward achieving these goals. Accordingly, we request that applicants include these performance measures in conceptualizing the design, implementation, and evaluation of their proposed projects.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Ken Waters, Upward Bound Program, U.S. Department of Education, 1990 K St. NW., Room 7000, Washington, DC 20006-8510. Telephone: (202) 502-7586 or by email: ken.waters@ed.gov.

If you use a TDD, call the FRS, toll free, at 1-(800) 877-8339.

VIII. Other Information

Accessible Format: Individuals with disabilities can obtain this document and a copy of the application package in an accessible format (e.g., braille, large print, audiotape, or compact disc) on request to the program contact person listed under FOR FURTHER INFORMATION CONTACT in Section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: December 14, 2011.
Eduardo M. Ochoa,
Assistant Secretary for Postsecondary Education.

[FR Doc. 2011-32452 Filed 12-16-11; 8:45 am]

BILLING CODE 4000-01-P